DEPARTMENT OF ENERGY

Federal Energy Regulatory Commission

[Docket No. CP19-475-000]

Notice of Schedule for Environmental Review of the Gulfstream Natural Gas System, L.L.C. Phase VI Expansion Project

On June 3, 2019, Gulfstream Natural Gas System, L.L.C. (Gulfstream) filed an application in Docket No. CP19-475-000 requesting a Certificate of Public Convenience and Necessity pursuant to Section 7(b) and 7(c) of the Natural Gas Act to abandon, construct, and operate certain natural gas pipeline facilities in Alabama and Florida. The proposed project is known as the Phase VI Expansion Project (Project). The Project would add an additional 78,000 dekatherms per day of mainline capacity to an existing power plant in Manatee County, Florida.

On June 17, 2019, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—January 16, 2020

90-day Federal Authorization Decision Deadline—April 15, 2020

If a schedule change becomes necessary, additional notice will be provided so that the relevant agencies are kept informed of the Project's progress.

Project Description

Gulfstream proposes to install one 16,000 horsepower turbine driven compressor unit at its existing Compressor Station 410 located in Mobile County, Alabama and would also abandon in place approximately 4 miles of 36-inch-diameter pipeline in Mobile County. Gulfstream would construct approximately 4 miles of thicker walled 36-inch-diameter pipeline to replace the abandoned pipeline and increase the maximum allowable operating pressure of approximately 59 miles of 36-inch-diameter onshore and offshore pipeline. The Project would also require the construction of metering equipment at Compressor Station 420 in Manatee County, Florida.

Background

On July 25, 2019, the Commission issued a Notice of Intent to Prepare an Environmental Assessment for the Proposed Phase VI Expansion Project and Request for Comments on Environmental Issues (NOI). The NOI was sent to affected landowners; federal, state, and local government agencies; elected officials; environmental and public interest groups; Native American tribes; other interested parties; and local libraries and newspapers. To date, the Commission received comments from one landowner in response to the NOI. The primary issues raised by the commenter were not related to the Project. All substantive comments will be addressed in the forthcoming EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP19-475), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 21, 2019.
Kimberly D. Bose,
Secretary.

[FR Doc. 2019-18429 Filed 8-26-19; 8:45 am]

BILLING CODE 6717-01-P